DEPARTMENT OF THE INTERIOR

Office of the Secretary

Performance Review Board appointments

AGENCY: Office of the Secretary, Interior.

ACTION: Notice of appointments.

SUMMARY: This notice provides the names of individuals who have been appointed to serve as members of the 2008 Department of the Interior Performance Review Board.

DATES: These appointments are effective upon publication in the Federal Register.

FOR FURTHER INFORMATION CONTACT: Sharlyn Grigsby, Director, Office of Human Resources, Office of the Secretary, Department of the Interior, 1849 C Street, NW., Washington, DC 20240, Telephone Number: (202) 208-6761.

Dated: October 22, 2008.
Sharlyn A. Grigsby,
Director, Office of Human Resources.

2008 Performance Review Board Eligibles

ABEITA, ETHEL J, DIRECTOR, OTR

ACHTERBERG, DAVID G., DIR, SECURITY, SAFETY & LAW ENFORCEMENT

ALBERTS, JASON P., ASSOC SOLICITOR-MINERAL RESOURCES

ANSPACH, ALLEN J., REGIONAL DIRECTOR

ARHA, KAUSHALENDRA, DEPUTY ASSISTANT SECRETARY

ARROYO, BRYAN, ASST DIR-ENDANGERED SPECIES

ASHE, DANIEL M., FISH AND WILDLIFE ADVISOR

BAGLIN, CHRISTINE S., DIR, OFC OF POLICY ANALYSIS

BAKER, KAREN D., ASSOC DIR FOR ADMIN POLICY & SERVICES

BARCHENGER, ERVIN J., REGIONAL DIRECTOR-MRCC ASSOCIATE DIRECTOR, AVIATION

BATHRICK, MARK L., MANAGMENT

BAYANI, THERESA WALSH, PROGRAM DIRECTOR FOR

BECK, RICHARD T., DIRECTOR, OFFICE OF PLANNING &

BECKMANN, DARRYL H., DEP COM, POLICY, ADMIN & BUDGET

BENNETT, ROBERT A., STATE DIRECTOR

BHAGOWALIA, SANJEEV NMN, CHIEF INFORMATION OFFICER

BISSON, HENRI R., DEPUTY DIRECTOR

BLACK, MICHAEL S., REGIONAL DIRECTOR-GREAT PLAINS

BLACKWELL, EDITH R., DEP ASSOC SOL-INDIAN AFFAIRS

BLANCHARD, MARY JOSIE, DEPUTY DIRECTOR

BOGERT, L. MICHAEL, COUNSELOR TO THE SECRETARY

BOURGEOIS, DOUGLAS J., DIRECTOR, NATIONAL BUSINESS CENTER

BRADLEY, OMAR, REGIONAL DIRECTOR

BREECE, CHARLES E., ATTORNEY—ADVISOR (GENERAL)

BROUN, LAURENCE I., DIRECTOR, OFFICE OF EMERGENCY MGMT

BROWN, LAURA B., DEP ASSOC SOL—LAND & WATER RES

BROWN, ROBERT E., ASSOC DIR FOR ADMIN AND BUDGET

BURCH, MELVIN E., REGIONAL FIDUCIARY TRUST

BURCKMAN, JAMES N., HUMAN RESOURCES PROJECT LEADER

BURKS, MARIA A., EXECUTIVE DIRECTOR CHIEF, OFFICE OF BUDGET &

BURZYK, CARLA M., PERFORMANCE

BUTLER, MITCHELL J., DEPUTY ASSISTANT SECRETARY—

CARL, LEON M., REGIONAL EXECUTIVE—EASTERN REGION

CASON, JAMES E., ASSOCIATE DEPUTY SECRETARY

CESAR, NILES C., REGIONAL DIRECTOR

CHICHARELLO, ELOUISE, SPECIAL ASST TO THE DIRECTOR, BIA

CLARK, DEBBIE LYNN, DIRECTOR, ADMINISTRATION

CLARK, HORACE G., REGIONAL SOLICITOR

COMER, ROBERT D., REGIONAL SOLICITOR

CONTE, ANTHONY R., REGIONAL SOLICITOR

CORDOVA-HARRISON, ELIZABE, DIR, MANAGEMENT SERVICES OFFICE

COTTER, GLADYS A., ASSOC CHIEF BIOL FOR INFO

CRAFF, ROBERT C., REG FIDUCIARY TRUST ADMINISTRATOR

CRAMER, DEWEY B., EXECUTIVE ADVISOR FOR LAND IMAGING

CRUICKSHANK, WALTER D., DEP DIR/MINERALS MGMT SERV

CURRAN, JOSEPH L, CHIEF INFORMATION OFFICER

DALY, ELENA C, AD, NAT'L LANDSCAPE CONSER SYS

DANENBERGER, ELMER P., CHIEF, OFFSHORE REGULATORY

DAVIS, MARK H., CHIEF, DIV OF BUDGET &

DEERINWATER, DANIEL J., REGIONAL DIRECTOR

DELAPLAINE, L. BRUCE, GENERAL COUNSEL

DELUISE, FRANK M., DIR, NAT RES DAMAGE ASSESSMENT

DEMULDER, MARK L., CHIEF, GEOGRAPHIC INFORMATION

DICKINSON, WILLIAM K., PARK MANAGER (SUPERINTENDENT)

DIERAUF, LESLIE A., REGIONAL EXECUTIVE—WESTERN REGION

DITMANSON, DALE A., PARK MANAGER-(SUPERINTENDENT)

DOMENECH, DOUGLAS W., DEPUTY CHIEF OF STAFF

DOUGLAS, JAMES C., ASSISTANT DIRECTOR, FIRE AND AVIATION

DOYLE, ROBERT E. JR., DEPUTY DIRECTOR

DUPUY, JOHN EDWARD, DEPUTY ASST INSPECTOR GENERAL

DYER, THOMAS H, STATE DIRECTOR

EAMES, MATTHEW C, DIRECTOR, CONGRESSIONAL AND

EDWARDS, BERT T., EXECUTIVE DIRECTOR, OFFICE OF

ELLER, SHARON D., DIRECTOR, OFFICE OF CIVIL RIGHTS

ELMORE, KIMBERLY, ASST IG FOR INSPECTIONS & EVALS

ERWIN, DONNA MARIE, PRINCIPAL DEPUTY SPECIAL REGIONAL EXECUTIVE—NORTH CENTRAL

ETHRIDGE, MAX M., AREA

FABER, ROBERT C., ASSOC SOL—PARKS & WILDLIFE

FERGUSON, MICHAEL A., ASSISTANT DIRECTOR, BUSINESS

FERRITER, OLIVIA B., DIR. CONSERVATION, PARTNERSHIPS &

FEUERSTEIN, RANDY R., CHIEF INFORMATION OFFICER

FINFER, LAWRENCE A., DEPUTY DIRECTOR, OFFICE OF

FLETCHER, DANIEL L. JR., DIR-OFF OF FIN MGMT & DEP CFO

FORREST, VICKI L., DEPUTY DIRECTOR—TRUST SERVICES

FRAZER, GARY D., AD-FISHERIES & HABITAT CONSERVATION

FREEMAN, SHAREE M., DIRECTOR, OFC OF SELF-GOV AD, NATURAL RESOURCE STEWARD &

FROST, HERBERT C., SCIENCE

GABALDON, MICHAEL R., DIRECTOR, TECHNICAL RESOURCES

GALLAGHER, KEVIN T., DEPUTY ASSOCIATE DIRECTOR FOR

GARY, ARTHUR E., ASSOCIATE SOLICITOR—GENERAL LAW

GIDNER, JEROLD L., DIRECTOR, BUREAU OF INDIAN AFFAIRS

GLASER, DONALD R., REGIONAL DIRECTOR

GOKLANY, INDUR M., MGR. SCIENCE & ENGINEERING

GOLL, JOHN T., REGNL DIRECTOR, ALASKA OCS RGN

GONZALES-SCHREINER, ROSEA, DIRECTOR, PROGRAM & POLICY SERVICES

GOULD, GREGORY J., ASSOC DIR FOR MINERALS REVENUE MGMT

GOULD, ROWAN W., DEPUTY DIRECTOR

GRAY, LORRI J., REGIONAL DIRECTOR

GRIGSBY, SHARLYN A., DIRECTOR, OFFICE OF HUMAN RESOURCES

GUERTIN, STEPHEN D., REGIONAL DIRECTOR—DENVER, CO

GUNDERSEN, LINDA C., CHIEF SCI FOR GEOLOGY

HAMILTON, SAMUEL D., REGIONAL DIRECTOR—ATLANTA

HANNA, JEANETTE D., REGIONAL DIRECTOR

HARDGROVE, STEPHEN A., ASST. IG FOR INVESTIGATIONS

HARTLEY, DEBORAH J., CHIEF INFORMATION OFFICER, DEPUTY DIRECTOR FOR SUPPORT

HARVEY, LINDI L., SERVICES

HASELTINE, SUSAN D., ASSOCIATE DIRECTOR FOR BIOLOGY

HASKETT, GEOFFREY L., REGIONAL DIRECTOR—ANCHORAGE

HAZE, PAMELA K., DIRECTOR, OFFICE OF BUDGET

HENNE, PAUL W., ASST DIR—BMO

HERBST, LARS T., REG, DIR GULF OF MEXICO OCS REGION

HOWARTH, ROBERT G., DEPUTY DIRECTOR

HROBSKY, JON A., DEPUTY DIRECTOR FOR POLICY

IUDICELLO, FAY S., DIRECTOR, EXEC SEC & REG AF

JAEGER, ROBERT R., DIR, INDIAN LAND CONSOL CTR

JAMES, JIM D., REGIONAL FIDUCIARY

JARVI, CHRISTOPHER K., AD, PART, INTERP & ED, VOL & OUT REC

JARVIS, JONATHAN B., REG. DIR. PACIFIC WEST REG

JENSEN, LAWRENCE J., DEPUTY SOLICITOR

JOHNSON, LUKE DANIEL, DEPUTY DIRECTOR, PROGRAMS AND POLICY

JOHNSON, LYNN A., REGIONAL SOLICITOR

JONES, KENNETH B., CHIEF SCIENTIST FOR BIOLOGY

JORJANI, DANIEL H., COUNSELOR TO THE DEPUTY SECRETARY

KEABLE, EDWARD T., ASSOCIATE SOLICITOR, ADMINISTRATION

KEARNEY, CHRISTOPHER B., DEPUTY ASSISTANT SECRETARY FOR

KEEL, M. FRANKLIN, REGIONAL DIRECTOR

KENDALL, MARY L., DEPUTY INSPECTOR GENERAL

KIMBALL, DANIEL B., PARK MANAGER (SUPERINTENDENT)

KIMBALL, SUZETTE M., ASSOCIATE DIRECTOR FOR GEOLOGY

KINSINGER, ANNE E., REGIONAL DIRECTOR—WESTERN REGION

KLEIN, ALLEN D., REGIONAL DIRECTOR

KREISHER, ERNESTINE W., DIRECTOR, OFFICE OF COMMUNICATIONS

LABELLE, ROBERT P., DEPUTY ASSOC. DIRECTOR FOR

LANE, RONGERLIS C.L., AD, INFORMATION RESOURCES MGMT

LARSEN, MATTHEW C., ASSOCIATE DIRECTOR FOR WATER

LAWS, JULIA M., ASSISTANT DIRECTOR FOR HR SYSTEMS

LEWIS, SUZANNE, PARK MANAGER (SUPERINTENDENT)

LOFTIN, MELINDA J., DESIG. AGENCY ETHICS OFFICIAL

LOHOEFENER, RENNE R., REGIONAL DIRECTOR, SACRAMENTO, CA

LONNIE, THOMAS P., STATE DIRECTOR

LORDS, DELANO J, DEP SPEC TRUSTEE—TRUST SVC

LORDS, DOUGLAS A., DEP SPEC TRUSTEE FIELD OPS

LUTHI, RANDALL B., DIRECTOR

LYDER, JANE M., ASSISTANT DEPUTY SECRETARY

MALAM, PAMELA R., ASSOCIATE DIRECTOR FOR HUMAN CAPITAL

MARTIN, GEORGIA KAY, CHIEF APPRAISER

MARTIN, STEPHEN P., PARK MANAGER

MASICA, SUE E., REGIONAL DIRECTOR, ALASKA REGION

MATTHEWS, JANET S., ASSOC DIRECTOR, CULTURAL RESOURCES

MAY, JAMES G., EXEC DIR, SO FLA ECO REST

MAZER, BERNARD J., ASST DIR—INFO RES TECH MGMT/CIO

MCDONALD, JOHN W., REGIONAL DIRECTOR

MCKENNA, ROBERT C., CHIEF INFORMATION OFFICER

MCKEOWN, MATTHEW J., DEPUTY ASSOCIATE SOLICITOR

MELIUS, THOMAS O., REGIONAL DIRECTOR—TWIN CITIES DIRECTOR, INDIAN ENERGY RESOURCES

MIDDLETON, ROBERT W., DEV

MILLER, MARY JANE A., BUDGET OFFICER

MORE, ROBERT S., DIRECTOR, OFFICE OF HEARINGS

MORIARTY, MARVIN E., REGIONAL DIRECTOR

MORRIN, LAWRENCE H., REGIONAL DIRECTOR

MORRIS, DALE R., REGIONAL DIRECTOR-PACIFIC

MOSHER, JAMES A., DEPUTY ASSISTANT SECRETARY

MOYLE, THOMAS R. III, DEPUTY AIG FOR OFFICE OF MANAGEMENT

MURPHY, TIMOTHY M., DEPUTY ASSISTANT DIRECTOR

MYERS, RICHARD G., REGIONAL SOLICITOR-ALASKA REGION

Name Position Title

NEDD, MICHAEL D., AD, MINS, REAL, & RES PRO

NOE, MONICA A., DAS-HUMAN CAPITAL, PERFORMANCE AND

NYCE, JOHN W., ASSOC DIRECTOR, ACQUISITION SERVICES

O'DELL, MARGARET G., PARK MANAGER (SUPERINTENDENT)

OLSEN, MICHAEL D., DEPUTY ASSISTANT SECRETARY

O'NEILL, BRIAN, PARK MANAGER

ONLEY, KAMERAN L., ASSISTANT DEPUTY SECRETARY

OWENS, GLENDA HUDSON, DEPUTY DIRECTOR-OSM

OYNES, CHRIS C., ASSOCIATE DIRECTOR FOR

PALMA, JUAN M., STATE DIRECTOR

PARISIAN, EDWARD F., REGIONAL DIRECTOR

PARKINSON, LARRY R., DAS-LAW ENFORCEMENT & SECURITY

PAYNE, GRAYFORD F., CHIEF FINANCIAL OFFICER

PEREZ, BENITO ARTURO, CHIEF, OFFICE OF LAW ENFORCEMENT

PETERSON, LYNN, REGIONAL SOLICITOR

PETTIS, RENEE M., ASSISTANT INSPECTOR GENERAL

PETTY, TIMOTHY R., DEPUTY ASSISTANT SECRETARY

PIMLEY, LOWELL D., DIR, TECHNICAL SERVICE CTR

POLLY, KRIS D., DEPUTY ASSISTANT SECRETARY

PONCE, STANLEY L. REGIONAL EXECUTIVE-SOUTH CENTRAL AREA

POOL, MICHAEL J., STATE DIRECTOR

POWERS, MICHAEL T., ASSOC DIR FOR FIN RPTING & SYSTEMS

PULA, NIKOLAO IULI, DIRECTOR, OFFICE OF INSULAR AFFAIRS

QUINT, ROBERT J., DIRECTOR, WASHINGTON OPERATIONS

QUINTANA, ERNEST, REGIONAL DIRECTOR, MIDWEST REGION

RAGSDALE, WILLIAM PATRICK, DEPUTY DIRECTOR-JUSTICE SERVICES

REIDENBACH, DENNIS R., REGIONAL DIRECTOR, NORTHEAST

REVER, JOHN N., DIR FAC, ENV, SAF & CUL RES MGMT

REYNOLDS, THOMAS G., REGIONAL FIDUCIARY TRUST ADMIN

RIDEOUT, STERLING J. JR, ASST DIRECTOR-PROGRAM SUPPORT

ROBERSON, EDWIN L., AD, RENEWABLE RES & PLANNING

ROMANYSHYN, ROBERT, ASST INSPECTOR GENERAL FOR AUDITS

ROTH, BARRY N., DEPUTY ASSOCIATE SOLICITOR

RUGEN, CATHERINE E., REGIONAL FIDUCIARY TRUST

RUNDELL, LINDA S.C., STATE DIRECTOR

RUSS, DAVID P., REGIONAL EXECUTIVE NORTHEAST

RYAN, MICHAEL J., REGIONAL DIRECTOR

SAFFARINIA, EGHBAL, ASSISTANT INSPECTOR GENERAL

SALT, TERRENCE C., DIRECTOR EVERGLADES

SANT, DONALD T., SENIOR POLICY ADVISOR

SCHMIDT, PAUL RUDOLPH, ASST DIR-MIG BIRDS & STATE PROG

SCHOLZ, DONNA K., FIRE PROGRAM ANALYSIS PROJECT DIR

SCHULTZ, RICHARD D., NATIONAL BORDERLAND COORDINATOR

SCOTT, MARY GIBSON, PARK MANAGER (SUPERINTENDENT)

SHEAFFER, C. BRUCE, FINANCIAL ADVISOR (COMPTROLLER)

SHEARER, DAVID P, FBMS PROGRAM DIRECTOR

SHEEHAN, DENISE E., ASST-DIR BUDGET, PLNG & HR

SHEPARD, EDWARD W, STATE DIRECTOR

SHILLITO, DANIEL G., REGIONAL SOLICITOR

SHOPE, THOMAS D., REGIONAL DIRECTOR

SIDERELIS, KAREN C., GEOSPATIAL INFORMATION OFFICER

SIERRA, SELMA, STATE DIRECTOR

SIMPSON, JERRY W., ASSISTANT DIRECTOR, WORKFORCE MGMT

SINGER, MICHELE F., DIR, OFC OF REGULATORY MGMT

SKENANDORE, KEVIN B., ASSOCIATE DEPUTY DIRECTOR-WEST

SKIBINE, GEORGE T.C., DIRECTOR, OFC OF INDIAN GAMING MGMT.

SLACK, JAMES J., DIRECTOR, NCTC

SMITH, MICHAEL R., DEPUTY DIRECTOR, FIELD OPS

SMYTH, PAUL B., DIR, INDIAN TRUST LIT OFC

SNYDER, MICHAEL D., REGIONAL DIRECTOR, INTERMTN. REGION

SONDERMAN, DEBRA E., DIR/ACQUISITION & PROP. MGMT.

SPEAKS, STANLEY M., REGIONAL DIRECTOR

STANSELL, KENNETH B., SENIOR ADVISOR

STELZER, LYNDA B., DIRECTOR, NAT'L OPERATIONS CENTER

STEVENS, ELIZABETH H., ASST DIR-EXTERNAL AFFAIRS

STEVENSON, KATHERINE H., ASSOC DIR., BUSINESS SERVICES

STEWARD, JAMES D., PROGRAM DIRECTOR FOR RIK

STITH, E. MELODEE, ASSOCIATE DIRECTOR, ACQ & FIN ASST

TAYLOR, WILLIE R., DIR, OFC ENV POL AND COMPL

TAYLOR-GOODRICH, KAREN F., ASSOC DIR, VISITOR & RESOURCE PROTECT

TERLAND, GENE R., STATE DIRECTOR

THORSEN, KIMBERLEY A., DIRECTOR, OFFICE OF LAW ENFORCEMENT

THORSON, ROBYN, REGIONAL DIRECTOR-PORTLAND

TOLLEFSON, MICHAEL J., PARK MANAGER (SUPERINTENDENT)

TRIEBSCH, GEORGE F., ASSOCIATE DIRECTOR FOR POLICY

TSCHUDY, DEBORAH GIBBS, DEPUTY ASSOCIATE DIRECTOR FOR

TUGGLE, BENJAMIN N., REGIONAL DIRECTOR, ALBUQUERQUE

UPDIKE, RANDALL G., REGIONAL EXECUTIVE ROCKY MOUNTAIN

VELA, R. DAVID, REGIONAL DIRECTOR, SE REGION

VELASCO, JANINE M., ASSISTANT DIRECTOR

VERHEY, DAVID M., DEPUTY ASSISTANT SECRETARY

VIRDEN, TERRANCE LEE, REGIONAL DIRECTOR-MIDWEST

WADE, FOSTER L., DEPUTY ASSISTANT SECRETARY

WAIDMANN, BRIAN, CHIEF OF STAFF

WAINMAN, BARBARA W., DIRECTOR, OFFICE OF

WALKOVIAK, LARRY P., REGIONAL DIRECTOR

WEAVER, JESS D., REGIONAL EXECUTIVE SOUTHEAST

WEISMAN, SANDRA L., CHIEF, FINANCIAL ADVISOR

WELLS, SANDRA J., DIRECTOR OF STRATEGIC EMPLOYEE DEV

WENK, DANIEL N., DEPUTY DIRECTOR, OPERATIONS

WENKER, RONALD B., STATE DIRECTOR

WHEELER, KATHLEEN J.H., DEPUTY CHIEF HUMAN

WHITESELL, STEPHEN E., ASSOC DIR., PARK PLAN, FACILIT & LANDS

WHITTINGTON, SAMUEL Q., MANAGER, DENVER SERVICE CENTER

WILLIAMS, JERRY E., DEPUTY CHIEF INFORMATION OFFICER

WILLIAMS, LC, ASSOCIATE DIRECTOR, FPPSSD

WILLIAMS, MARGARET C., DEP SPEC TRUSTEE-TRUST ACCOUNTABILITY

WIRKUS, KARL E., DEPUTY COMMISSIONER-OPERATIONS

WISELY, SARAH E., STATE DIRECTOR

WOLF, ROBERT W., DIR, PROGRAM & BUDGET

WOLFE, SHANE B., PRESS SECRETARY

WOOD, MICHAEL F., CHIEF OF STAFF

WOODY, WILLIAM C., DIR. LAW ENFORCE, SEC. & PROT.

WORONKA, THEODORE, ASST DIR-FOR FINANCE & ADMIN.

ZIELINSKI, ELAINE Y., STATE DIRECTOR

ZIPPIN, JEFFREY P., DEPUTY DIRECTOR, OHTA

[FR Doc. E8-26240 Filed 11-3-08; 8:45 am]

BILLING CODE 4310-17-P